FEDERAL COMMUNICATIONS COMMISSION

[CC Docket No. 92-237; DA 01-1970]

Next Meeting of the North American Numbering Council

AGENCY: Federal Communications Commission.

ACTION: Announcement of meeting.

SUMMARY: On August 21, 2001, the Commission released a public notice announcing the September 11-12, 2001 meeting and agenda of the North American Numbering Council (NANC). The intended effect of this action is to make the public aware of the NANC's next meeting and its agenda.

DATES: September 11, 2001, at 8:30 a.m. until 5 p.m. and on September 12, 2001 at 8:30 a.m. until 12 p.m. (if required).

FOR FURTHER INFORMATION CONTACT: Deborah Blue, Special Assistant to the Designated Federal Officer (DFO) at (202) 418-2320 or dblue@fcc.gov. The address is: Network Services Division, Common Carrier Bureau, Federal Communications Commission, The Portals II, 445 12th Street, SW., Suite 6A207, Washington, DC 20554. The fax number is: (202) 418-2345. The TTY number is: (202) 418-0484.

SUPPLEMENTARY INFORMATION: Released: August 21, 2001.

The North American Numbering Council (NANC) has scheduled a meeting to be held Tuesday, September 11, 2001, from 8:30 a.m. until 5 p.m., and on Wednesday, September 12, 2001, from 8:30 a.m., until 12 noon (if required). The meeting will be held at the Federal Communications Commission, Portals II, 445 12th Street, SW, Room TW-C305, Washington, DC.

This meeting is open to members of the general public. The FCC will attempt to accommodate as many participants as possible.

The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda

1. Announcements and Recent News

—NANC meeting schedule

2. Approve Minutes

—Meeting of July 17-18, 2001

3. Report of the North American Numbering Plan Administrator

—Response to 2000 Performance Appraisal

—NANP Exhaust Analysis

—Regular NANPA Report

—Unavailable Code project status

—Assessment of August NRUF problems

4. Report of NANPA Oversight Working Group

—NANPA Contract Technical Requirements

—Regular NOWG Report

5. Presentation by National Thousands-Block Pooling Administrator

—Initial projection of pooling rollout schedule

—Access to details of PA-FCC contract terms

6. Report of NANP Expansion/Optimization IMG

7. Status of Industry Numbering Committee activities

—Status of “orphaned code” guidelines

8. Report of the Local Number Portability Administration (LNPA) Working Group

—Wireless Number Portability Operations (WNPO) Subcommittee

9. Report of NAPM LLC

10. Report from NBANC

11. Report of Cost Recovery Working Group

12. Steering Committee

—Table of NANC Projects

13. Report of Steering Committee

14. Action Items

15. Public Participation (5 minutes each, if any)

16. Other Business

Adjourn (5 PM)

Wednesday, September 12, 2001 (If Required)

17. Complete any unfinished Agenda Items

18. Other Business

Federal Communications Commission.
Diane Griffin Harmon,
Acting Chief, Network Services Division, Common Carrier Bureau.

[FR Doc. 01-21627 Filed 8-27-01; 8:45 am]

BILLING CODE 6712-01-P